DEPARTMENT OF TRANSPORTATION

Federal Aviation Administration

[Docket No. FAA-2005-22842]

Military Airport Program (MAP) Application; Extension of Application Deadline

AGENCY: Federal Aviation Administration (FAA, Department of Transportation (DOT).

ACTION: Notice of extension of application deadline for participation in the Military Airport Program (MAP) for the fiscal year 2007.

SUMMARY: The Federal Aviation Administration (FAA) is extending to January 19, 2007, the date to submit an application for the MAP. The original notice, Notice of Opportunity to Participate, criteria requirements and application procedure for participation in the MAP appeared in the Federal Register on October 16, 2006 (71 FR 60791). In that Notice of Opportunity to Participate, FAA requested applications be received on or before November 27, 2006. The agency is taking this action in response to requests for an application deadline extension to allow interested persons additional time to submit applications.

DATES: Submit applications by January 19, 2007.

ADDRESSES: Submit an original and two copies of Standard Form (SF) 424, “Application for Federal Assistance,” prescribed by the Office of Management and Budget Circular A-102, available at http://www.faa.gov/arp/ace/forms/sf424.doc, along with any supporting and justifying documentation. Applicant should specifically request to be considered for designation or redesignation to participate in the fiscal year 2007 MAP. Submission should be sent to the Regional FAA Airports Division or Airports District Office that serves the airport. Applicants may find the proper office on the FAA Web site http://www.faa.gov/arp/regions.cfm?nav=regions or may contact the office below.

FOR FURTHER INFORMATION CONTACT: Mr. Ball (Kendall.Ball@faa.gov), Airports Financial Assistance Division (APP-500), Office of Airport Planning and Programming, Federal Aviation Administration (FAA), 800 Independence Avenue, SW., Washington, DC 20591, (202) 267-7436.

SUPPLEMENTARY INFORMATION:

I. Background

In the Federal Register of October 16, 2006 (71 FR 60791), FAA published a notice of Opportunity to Participate, criteria requirements and application procedure for designation or redesignation in the MAP.

The agency has received multiple requests for an extension of the date to submit an application. FAA has considered the requests and is extending the date to submit an application for 30 days, until January 19, 2007. The agency believes that a 30-day extension allows adequate time for interested persons to submit applications without significantly delaying the implementation of the MAP.

Dated: December 14, 2006.
James R. White,
Acting Director, Officer of Airport Planning and Programming.

[FR Doc. 06-9782 Filed 12-19-06; 8:45 am]

BILLING CODE 4910-13-M